ENVIRONMENTAL PROTECTION AGENCY

[Docket No. EPA-R02-OAR-2010-0482; FRL-9161-5]

Adequacy Status of the Submitted 2009 PM2.5 Motor Vehicle Emission Budgets for Transportation Conformity Purposes for New Jersey

AGENCY: Environmental Protection Agency (EPA).

ACTION: Notice of adequacy.

SUMMARY: In this notice, EPA is notifying the public that we have found that the motor vehicle emissions budgets for PM2.5 and NOX in the submitted attainment demonstration state implementation plans for the New Jersey portions of the New York-Northern New Jersey-Long Island, NY-NJ-CT, and Philadelphia-Wilmington, PA-NJ-DE, PM2.5 nonattainment areas to be adequate for transportation conformity purposes. The transportation conformity rule (40 CFR part 93) requires that the EPA conduct a public process and make an affirmative decision on the adequacy of budgets before they can be used by metropolitan planning organizations in conformity determinations. As a result of our finding, two metropolitan planning organizations in New Jersey (the North Jersey Transportation Planning Authority and the Delaware Valley Regional Planning Commission) must use the new 2009 PM2.5 budgets for future transportation conformity determinations.

DATES: This finding is effective June 29, 2010.

FOR FURTHER INFORMATION CONTACT: Matt Laurita, Air Programs Branch, Environmental Protection Agency—Region 2, 290 Broadway, 25th Floor, New York, New York 10007-1866, (212) 637-3895, laurita.matthew@epa.gov.

The finding and the response to comments will be available at EPA's conformity Web site: http://www.epa.gov/otaq/stateresources/transconf/adequacy.htm.

SUPPLEMENTARY INFORMATION:

Background

On April 1, 2009, New Jersey submitted attainment demonstration state implementation plans to EPA for both the New York-Northern New Jersey-Long Island, NY-NJ-CT (New York), and Philadelphia-Wilmington, PA-NJ-DE (Philadelphia), PM2.5 nonattainment areas. The purpose of New Jersey's submittal was to demonstrate the State's progress toward attaining the 1997 PM2.5 National Ambient Air Quality Standard (62 FR 38652, July 18, 1997). New Jersey's submittal included motor vehicle emissions budgets (“budgets”) for 2009 for use by the State's metropolitan planning organizations in making transportation conformity determinations. On August 19, 2009, EPA posted the availability of the budgets our Web site for the purpose of soliciting public comments. The comment period closed on September 18, 2009, and we received no comments.

Today's notice is simply an announcement of a finding that we have already made. EPA Region 2 sent a letter to New Jersey on May 4, 2010, stating that the 2009 motor vehicle emissions budgets in New Jersey's SIPs for both the New York and Philadelphia PM2.5 nonattainment areas are adequate because they are consistent with the required attainment demonstration. In the letter we also clarified that the adequate 2009 budgets do not replace previously approved “early progress” budgets for either NJTPA (71 FR 38770, July 10, 2006) or the Mercer County portion of DVRPC (73 FR 24868, May 6, 2008). However, since the previously approved budgets were established voluntarily (i.e. not to satisfy a specific Clean Air Act requirement), and the budgets submitted on April 1, 2009, were part of a required attainment demonstration, the budgets being found adequate today will co-exist with the previously approved budgets, and the more protective budgets will take precedence in any regional emissions analysis performed by either MPO.

Transportation conformity is required by section 176(c) of the Clean Air Act. EPA's conformity rule requires that transportation plans, programs, and projects conform to SIPs and establishes the criteria and procedures for determining whether or not they conform. Conformity to a SIP means that transportation activities will not produce new air quality violations, worsen existing violations, or delay timely attainment of the National Ambient Air Quality Standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in 40 CFR 93.118(f). We have followed this rule in making our adequacy determination. The motor vehicle emissions budgets being found adequate today are listed in Table 1. EPA's finding will also be announced on EPA's conformity Web site: http://www.epa.gov/otaq/stateresources/transconf/adequacy.htm.

Table 1—2009 Attainment PM2.5 Motor Vehicle Emissions Budgets for New Jersey
[Tons per year]
Metropolitan planning organization | PM2.5 | NOX
North Jersey Transportation Planning Authority | 842 | 44,321
Delaware Valley Regional Planning Commission (Mercer County only) | 105 | 5,323
Delaware Valley Regional Planning Commission (Burlington, Camden, and Gloucester Counties) | 341 | 17,319

Authority: 42 U.S.C. 7401-7671q.

Dated: June 2, 2010.
Judith A. Enck,
Regional Administrator, Region 2.

[FR Doc. 2010-14209 Filed 6-11-10; 8:45 am]

BILLING CODE 6560-50-P